DEPARTMENT OF COMMERCE

International Trade Administration

Proposed Information Collection; Comment Request; Procedures for Importation of Supplies for Use in Emergency Relief Work

AGENCY: International Trade Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 19, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Hardeep K. Josan, Office of the Chief Counsel for Import Administration, Room 3622, U.S. Department of Commerce; telephone: 202-482-0835; fax: 202-482-4912; hardeep.josan@trade.gov.

SUPPLEMENTARY INFORMATION:

I. Abstract

The regulations (19 CFR 358.101 through 358.104) provide procedures for requesting the Secretary of Commerce to permit the importation of supplies, such as food, clothing, and medical, surgical, and construction, for use in emergency relief work free of antidumping and countervailing duties.

Before importation, a written request shall be submitted by the person in charge of sending the subject merchandise from the foreign country or by the person for whose account it will be brought into the United States. The request should include the following information: Department antidumping and/or countervailing duty order case number; producer of the merchandise; detailed description of the merchandise; current Harmonized Trade System (HTS) number; price in the United States; quantity; proposed date and port of entry; mode of transport; person for whose account the merchandise will be brought into the U.S.; destination; use of the merchandise at the designated destination; and any additional information the person would like the Secretary to consider.

Authority: 19 U.S.C. 1318(a). There are no proposed changes to this information collection.

II. Method of Collection

Three copies of the request must be submitted in writing to the Secretary of Commerce, Attention: Import Administration, Central Records Unit, Room 1870, U.S. Department of Commerce, 1401 Constitution Avenue NW., Washington, DC 20230.

III. Data

OMB Control Number: 0625-0256.

Form Number(s): None.

Type of Review: Regular submission (extension to a currently approved collection).

Affected Public: Business or other for-profit organizations.

Estimated Number of Respondents: 5.

Estimated Time per Response: 2 hours.

Estimated Total Annual Burden Hours: 10.

Estimated Total Annual Cost to Public: $150.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 15, 2013.
Gwellnar Banks,
Management Analyst, Office of the Chief Information Officer.

[FR Doc. 2013-01042 Filed 1-17-13; 8:45 am]

BILLING CODE 3510-DS-P